DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the OMB for review under the Paperwork Reduction Act of 1995:

Proposed Project: Ryan White HIV/AIDS Program: Client-Level Data Reporting System: (OMB No. 0915-0323)—[Revision]

The Ryan White HIV/AIDS Program's client-level data reporting system, entitled the Ryan White HIV/AIDS Program Services Report or the Ryan White Services Report (RSR), was created in 2008 by the Health Resources and Services Administration (HRSA). It is designed to collect information from grantees, as well as their subcontracted services providers, funded under Parts A, B, C, and D, and the Part F Minority AIDS Initiative of the Ryan White HIV/AIDS Treatment Extension Act of 2009 (Ryan White HIV/AIDS Program). The Ryan White HIV/AIDS Program provides Federal HIV/AIDS Programs in the Public Health Service (PHS) Act under Title XXVI with flexibility to respond effectively to the changing HIV epidemic, with an emphasis on providing life-saving and life-extending services for people living with HIV/AIDS across this country, as well as targeting resources to areas that have the greatest needs.

All parts of the Ryan White HIV/AIDS Program specify HRSA's responsibilities in the administration of grant funds, the allocation of funds, the evaluation of programs for the population served, and the improvement of the quality of care. Accurate records of the providers receiving Ryan White HIV/AIDS Program funding, the services provided, and the clients served, continue to be critical issues for the implementation of the legislation and are necessary for HRSA to fulfill its responsibilities.

The RSR provides data on the characteristics of Ryan White HIV/AIDS Program-funded grantees, their contracted service providers, and the clients being served with program funds. The Report is intended to support clinical quality management, performance measurement, service delivery, and client monitoring at the system and client levels. The reporting system consists of two online data forms, the Grantee Report and the Service Provider Report, as well as a data file containing the client-level data elements. Data are submitted annually.

The legislation specifies grantee accountability and linking performance to budget. The RSR is used to ensure compliance with the requirements of the legislation, to evaluate the progress of programs, to monitor grantee and provider performance, to measure the Government Performance and Results Act (GPRA) and the Performance Assessment Rating Tool (PART) goals, and to meet reporting responsibilities to the Department, Congress, and OMB.

In addition to meeting the goal of accountability to Congress, clients, advocacy groups, and the general public, information collected through the RSR is critical for HRSA, State and local grantees, and individual providers to assess the status of existing HIV-related service delivery systems to investigate trends in service utilization and to identify areas of greatest need.

The estimated average annualized hour burden is 17,975 hours per year. Burden estimates are broken down into burden to grantee respondents and burden to service provider respondents. Estimates for grantees and service providers are further divided by the RSR component. Estimates for grantees and providers are based on prior experience in collecting, maintaining, and reporting data using the RSR and interviews with volunteers from grantee agencies.

The response burden for grantees is estimated as:

Component | Source of funding | Number of respondents | Responses per grantee | Hours per response | Total hour burden
Grantee Report | Part A | 56 | 1 | 2.04 | 114
| Part B | 59 | 1 | 2.52 | 149
| Part C | 354 | 1 | 0.32 | 113
| Part D | 98 | 1 | 0.33 | 32
| Subtotal | 567 |  |  | 408

The response burden for service providers is estimated as:

Component | Number of respondents | Responses per provider | Total responses | Hours per response | Total hour burden
Service Provider Report | * 2,080 | 1 | * 2,080 | 2.30 | 4,784
* All providers, including providers of administrative support services and direct client services.

Component | Electronic data system | Number of respondents | Responses per provider | Total responses | Hours per response | Total hour burden
Client Report | No | 56 | 1 | 56 | 106.25 | 5,950
| Yes | 1,822 | 1 | 1,822 | 3.75 | 6,832.5
| Subtotal | ** 1,878 |  | ** 1,878 |  | 12,783
** Providers of direct client services only.

Total Burden is 17,975.

Written comments and recommendations concerning the proposed information collection should be sent within 30 days of this Federal Register Notice to the desk officer for HRSA, either by e-mail to OIRA— submission@omb.eop.gov or by fax to 202-395-6974. Please direct all correspondence to the “attention of the desk officer for HRSA.”

Dated: January 3, 2011.
Robert Hendricks,
Director, Division of Policy and Information Coordination.

[FR Doc. 2011-99 Filed 1-6-11; 8:45 am]

BILLING CODE 4165-15-P